DEPARTMENT OF COMMERCE

Census Bureau

2020 Census Tribal Consultation

AGENCY: Census Bureau, Department of Commerce.

ACTION: Notice of public meeting.

SUMMARY: The Census Bureau will conduct two tribal consultations on the Detailed Demographic and Housing Characteristics File A (DHC-A) and Detailed Demographic and Housing Characteristics File B (Detailed DHC-B) on October 18, 2022, in Anchorage, Alaska and October 31, 2022, in Sacramento, California. Feedback on these products will help to determine the final content and design for the 2020 Census Detailed DHC-A and Detailed DHC-B. The tribal consultation meetings reflect the Census Bureau's continuous commitment to strengthen nation-to-nation relationships with federally recognized tribes. The Census Bureau's procedures for outreach, notice, and consultation ensure involvement of tribes to the extent practicable and permitted by law before making decisions or implementing policies, rules, or programs that affect federally recognized tribal governments. These meetings are open to citizens of federally recognized tribes by invitation. The Census Bureau provided questions in preparation for the tribal consultations focused on the Detailed DHC-A and Detailed DHC-B.

In that regard, the Census Bureau is asking tribal governments review the proposed tables, levels of geography, and product design. Helpful feedback would include tables and geographies that are needed, how design changes may impact your work, and ways the Census Bureau can continue to effectively communicate with tribal leaders about these products. The purpose of the tribal consultations is to hear tribes' recommendations.

DATES: The Census Bureau will conduct two tribal consultations on Tuesday, October 18, 2022, from 1 to 3 p.m. AKDT. The second tribal consultation will be on Monday, October 31, 2022, from 8:30 a.m. to 10 a.m. PDT. Any questions or topics to be considered in the tribal consultation meetings must be received in writing via email by Monday, October 10, 2022.

ADDRESSES: The Census Bureau tribal consultation registration links are:

Tribal Consultation—Anchorage—Oct 18, 2022: https://censustribalconsultationak.splashthat.com/.

Tribal Consultation—Sacramento—Oct 31, 2022: https://censustribalconsultationca.splashthat.com/.

Submit your comments by email. Send comments to: 2020DAS@census.gov.

Deadline date for input: November 30, 2022. Use the product name of either Detailed DHC-A or Detailed DHC-B in the subject line.

FOR FURTHER INFORMATION CONTACT: Dee Alexander Tribal Affairs Coordinator, Office of Congressional and Intergovernmental Affairs, Intergovernmental Affairs Office, U.S. Census Bureau, Washington, DC 20233; telephone (301) 763-6100; or email at ocia.tao@census.gov.

SUPPLEMENTARY INFORMATION: The Census Bureau is planning two tribal consultations on October 18, 2022, in Anchorage, Alaska and October 31, 2022, in Sacramento, California, with federally recognized tribes, so tribes can provide feedback on the content and design of the 2020 Census Detailed Demographic and Housing Characteristics File A (Detailed DHC-A) and Detailed Demographic and Housing Characteristics File B (Detailed DHC-B). These two products are the successor products to the American Indian and Alaska Native Summary File (AIANSF) that was produced in previous censuses. The Detailed DHC-A provides population counts and sex by age statistics for approximately 370 detailed racial and ethnic groups, such as German, Lebanese, Jamaican, Chinese, Native Hawaiian, and Mexican, as well as about 1,200 detailed American Indian and Alaska Native tribal and village population groups, such as Native Village of Hooper Bay (Naparyarmiut) and Navajo Nation. The Detailed DHC-B provides household type and tenure information for the same detailed race and ethnicity groups and American Indian and Alaska Native tribal and village population groups.

In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. In that regard, the Census Bureau is seeking comments on the content and design of the 2020 Census Detailed DHC-A and Detailed DHC-B, which include data on detailed race and ethnic groups and American Indian and Alaska Native tribes and villages.

Detailed Demographic and Housing Characteristics File A (Detailed DHC-A)

• Subjects: Population counts and sex by age statistics for approximately 370 detailed racial and ethnic groups, such as German, Lebanese, Jamaican, Chinese, Native Hawaiian, and Mexican, as well as about 1,200 detailed American Indian and Alaska Native tribal and village population groups, such as Native Village of Hooper Bay (Naparyarmiut) and Navajo Nation.

• The Detailed DHC-A implements an adaptive design that provides more detailed statistics for racial and ethnic groups with larger populations, while at the same time ensuring sufficient confidentiality protections.

• Access: data.census.gov.

• Proposed 2020 geographies: Nation, state, county, and American Indian/Alaska Native/Native Hawaiian (AIANNH) areas. We are evaluating the feasibility of adding places (cities and towns) and census tracts, per data user feedback.

• Planned release date: August 2023.

Detailed Demographic and Housing Characteristics File (Detailed DHC-B)

• Subjects: Household type and tenure information for the same detailed race and ethnicity groups and American Indian and Alaska Native tribal and village population groups mentioned for the Detailed DHC-A.

• The Detailed DHC-B has a proposed implementation of adaptive design similarly to Detailed DHC-A mentioned above.

• Access: data.census.gov.

• Proposed 2020 geographies: Nation, state, county, and American Indian/Alaska Native/Native Hawaiian (AIANNH) areas. We are evaluating the feasibility of adding places (cities and towns) and census tracts, per data user feedback.

• Release date: To be determined.

Submit your comments by email. Send comments to: 2020DAS@census.gov. Use the product name of either Detailed DHC-A or Detailed DHC-B in the subject line.

Robert L. Santos, Director, Census Bureau, approved the publication of this Notice in the Federal Register.

Dated: September 28, 2022.
Shannon Wink,
Program Analyst, Policy Coordination Office, U.S. Census Bureau.

[FR Doc. 2022-21479 Filed 10-3-22; 8:45 am]

BILLING CODE 3510-07-P